DEPARTMENT OF THE INTERIOR

National Park Service

[NPS-WASO-NAGPRA-22730; PPWOCRADN0-PCU00RP14.R50000]

Notice of Intent To Repatriate Cultural Items: Thomas Burke Memorial Washington State Museum, University of Washington, Seattle, WA

AGENCY: National Park Service, Interior.

ACTION: Notice.

SUMMARY: The Thomas Burke Memorial Washington State Museum (Burke Museum), in consultation with the appropriate Indian tribes or Native Hawaiian organizations, has determined that the cultural items listed in this notice meet the definition of unassociated funerary objects. Lineal descendants or representatives of any Indian tribe or Native Hawaiian organization not identified in this notice that wish to claim these cultural items should submit a written request to the Burke Museum. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Burke Museum at the address in this notice by March 27, 2017.

ADDRESSES: Peter Lape, Burke Museum, University of Washington, Box 353010, Seattle, WA 98195, telephone (206) 685-3849, email plape@uw.edu.

SUPPLEMENTARY INFORMATION: Notice is here given in accordance with the Native American Graves Protection and Repatriation Act (NAGPRA), 25 U.S.C. 3005, of the intent to repatriate cultural items under the control of the Burke Museum, Seattle, WA, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In the late 19th century, 33 cultural items were removed from an unknown location by James T. White from Point Hope, North Slope Borough, AK, and later donated to the Burke Museum by his wife in 1904. The 33 unassociated funerary objects are 1 wooden mask, 4 ground stone tools, 1 lot of earthenware fragments, 1 ivory thimble holder, 1 needle, 1 needle case, 1 comb, 1 scoop, 1 pipe, 2 pipe bowls, 1 ivory tool, 3 ground stone knives, 2 stone points, 2 bone points, 2 harpoon heads, 1 scraper blade, 4 harpoon points, 1 lance, 1 sinew rope, and 2 adzes.

In the late 19th century, one unassociated funerary object was removed from Point Hope, AK. It is believed that this object was also removed by James T. White and donated to Young Naturalist Society, who then donated it to the Burke Museum in 1904. The one unassociated funerary object is one lot of earthenware fragments. These fragments are labeled with the same writing and are given similar numbers to the other fragments from James T. White.

The objects were listed in the accession records as being removed from “old Tigarah” or “old Eskimo” graves at Point Hope. The objects are consistent with historic and prehistoric material cultural from this area and are related to the Inupiat people of the Point Hope (Tikigaq, aka Tigara) area (Damas, 1984). The modern day Inupiat descendants from Point Hope are members of the Native Village of Point Hope.

Determinations Made by the Burke Museum

Officials of the Burke Museum have determined that:

• Pursuant to 25 U.S.C. 3001(3)(B), the 34 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Native Village of Point Hope.

Additional Requestors and Disposition

Lineal descendants or representatives of any Indian tribe or Native Hawaiian organization not identified in this notice that wish to claim these cultural items should submit a written request with information in support of the claim to Peter Lape, Burke Museum, University of Washington, Box 353010, Seattle, WA 98195, telephone (206) 685-3849, email plape@uw.edu, by March 27, 2017. After that date, if no additional claimants have come forward, transfer of control of the unassociated funerary objects to the Native Village of Point Hope may proceed.

The Burke Museum is responsible for notifying the Native Village of Point Hope that this notice has been published.

Dated: January 11, 2017.
Melanie O'Brien,
Manager, National NAGPRA Program.

[FR Doc. 2017-03605 Filed 2-23-17; 8:45 am]

BILLING CODE 4312-52-P